DEPARTMENT OF COMMERCE

Patent and Trademark Office

Agency Information Collection Activities; Submission to the Office of Management and Budget (OMB) for Review and Approval; Comment Request; Recording Assignments

The United States Patent and Trademark Office (USPTO) will submit the following information collection request to the Office of Management and Budget (OMB) for review and clearance in accordance with the Paperwork Reduction Act of 1995, on or after the date of publication of this notice. The USPTO invites comments on this information collection renewal, which helps the USPTO assess the impact of its information collection requirements and minimize the public's reporting burden. Public comments were previously requested via the Federal Register on June 17, 2024 during a 60-day comment period (89 FR 51313). This notice allows for an additional 30 days for public comment.

Agency: United States Patent and Trademark Office, Department of Commerce.

Title: Recording Assignments.

OMB Control Number: 0651-0027.

Needs and Uses: This collection of information is required by 35 U.S.C. 261 and 262 for patents and 15 U.S.C. 1057 and 1060 for trademarks. These statutes authorize the United States Patent and Trademark Office (USPTO) to record patent and trademark assignment documents, including transfers of properties (i.e. patents and trademarks), liens, licenses, assignments of interest, security interests, mergers, and explanations of transactions or other documents that record the transfer of ownership of a particular patent or trademark property from one party to another. Assignments are recorded for applications, patents, and trademark registrations.

The USPTO administers these statutes through 37 CFR 2.146, 2.171, and 37 CFR part 3. These regulations permit the public, corporations, other federal agencies, and government-owned or government-controlled corporations to submit patent and trademark assignment documents and other documents related to title transfers to the USPTO to be recorded. In accordance with 37 CFR 3.54, the recording of an assignment document by the USPTO is an administrative action and not a determination of the validity of the document or of the effect that the document has on the title to an application, patent, or trademark.

Once the assignment documents are recorded, they are available for public inspection. The only exceptions are those documents that are sealed under secrecy orders according to 37 CFR 3.58, or related to unpublished patent applications maintained in confidence under 35 U.S.C. 122 and 37 CFR 1.14. The public uses these records to conduct ownership and chain-of-title searches. The public may view these records either at the USPTO Public Search Facility or at the National Archives and Records Administration, depending on the date they were recorded. The public may also search patent and trademark assignment information online through the USPTO website.

This information collection covers the recordation of patent and trademark assignments. In order to record an assignment, the respondent must submit an assignment document along with the appropriate cover sheet. The USPTO provides two forms for this purpose, the Recordation Form Cover Sheet—Trademarks Only (PTO-1594), and the Recordation Form Cover Sheet—Patents Only (PTO-1595), which capture all of the necessary data for accurately recording various assignments. Customers may submit assignments electronically by using Assignment Center, which is available on the USPTO website.¹ This system allows customers to fill out the required cover sheet information online using web-based forms and then attach the assignment documents to be submitted for recordation. The USPTO also provides paper forms that may be used to record an assignment. These forms may be downloaded in PDF format from the USPTO website.²

¹ https://assignmentcenter.uspto.gov.

² https://www.uspto.gov/sites/default/files/pto1594.pdf and https://www.uspto.gov/forms/pto1595.pdf, respectively.

For this 30-day notice, the non-hourly cost burdens have been adjusted, for an overall increase of $27, due to an increase in the postage rate since the 60-day notice was published. Additionally, in response to public comments, the USPTO has added an additional 10 minutes to this information collection burden estimate.

Forms: (AIA= America Invents Act; SB = Specimen Book)

• PTO-1594 (Recordation Form Cover Sheet—Trademarks Only)

• PTO-1595 (Recordation Form Cover Sheet—Patents Only)

Type of Review: Extension and revision of a currently approved information collection.

Affected Public: Private sector.

Respondent's Obligation: Required to obtain or retain benefits.

Frequency: On occasion.

Estimated Number of Annual Respondents: 724,442 respondents.

Estimated Number of Annual Responses: 724,442 responses.

Estimated Time per Response: The USPTO estimates that the responses in this information collection will take the public approximately 40 minutes (0.67 hours) to complete. This includes the time to gather the necessary information, create the document, and submit the completed request to the USPTO.

Estimated Total Annual Respondent Burden Hours: 485,376 hours.

Estimated Total Annual Respondent Non-hourly Cost Burden: $9,148,330.

This information collection request may be viewed at www.reginfo.gov. Follow the instructions to view Department of Commerce, USPTO information collections currently under review by OMB.

Written comments and recommendations for this information collection should be submitted within 30 days of the publication of this notice on the following website, www.reginfo.gov/public/do/PRAMain. Find this particular information collection by selecting “Currently under 30-day Review-Open for Public Comments” or by using the search function and entering either the title of the information collection or the OMB Control Number, 0651-0027.

Further information can be obtained by:

• Email: InformationCollection@uspto.gov. Include “0651-0027 information request” in the subject line of the message.

• Mail: Justin Isaac, Office of the Chief Administrative Officer, United States Patent and Trademark Office, P.O. Box 1450, Alexandria, VA 22313-1450.

Justin Isaac,
Information Collections Officer, Office of the Chief Administrative Officer, United States Patent and Trademark Office.

[FR Doc. 2024-19669 Filed 8-30-24; 8:45 am]

BILLING CODE 3510-16-P